FEDERAL RESERVE SYSTEM

Change in Bank Control Notices; Formations of, Acquisitions by, and Mergers of Bank Holding Companies; Correction

This notice corrects a notice (80 FR 71801, FR Doc. 2015-29298) of the issue for Tuesday, November 17, 2015.

Under the Federal Reserve Bank of Atlanta heading, the entry for Donald Joseph Leeper, Adairsville, Georgia, is revised to read as follows:

1. Donald Joseph Leeper, Cartersville, Georgia; to acquire voting shares of NorthSide Bancshares, Inc., and thereby indirectly acquire voting shares of NorthSide Bank, both in Adairsville, Georgia.

Comments on this application must be received by December 2, 2015.

Board of Governors of the Federal Reserve System, November 17, 2015.
Michael J. Lewandowski,
Associate Secretary of the Board.

[FR Doc. 2015-29678 Filed 11-19-15; 8:45 am]

BILLING CODE 6210-01-P